DEPARTMENT OF DEFENSE

Office of the Secretary

Submission for OMB Review; Comment Request

AGENCY: Office of the Secretary, DOD.

ACTION: Notice.

The Department of Defense has submitted to OMB for clearance, the following proposal for collection of information under the provisions of the Paperwork Reduction Act (44 U.S.C. chapter 35).

DATES: Consideration will be given to all comments received by February 24, 2003.

Title, Form Number, and OMB Number: Defense Federal Acquisition Supplement (DFARS) Part 242, Contact Administration, related clauses in DFARS 252 and related forms in DFARS 253; DD Form 1659; OMB Number 0704-0250.

Type of Request: Extension.

Number of Respondents: 33,000.

Responses Per Respondent: 2.

Annual Responses: 86,215.

Average Burden Per Response: 150 minutes (average).

Annual Burden Hours: 217,645.

Needs and Uses: This request concerns information collection requirements related to production progress reviews, Government bills of lading, contractor insurance/pension reviews, and the material management and accounting system reviews.

Affected Public: Business or other for-profit.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: January 16, 2003.
Patricia L. Toppings,
Alternate OSD Federal Register Liaison Officer, Department of Defense.

[FR Doc. 03-1439 Filed 1-22-03; 8:45 am]

BILLING CODE 5001-008-M